NATIONAL AERONAUTICS AND SPACE ADMINISTRATION

[Notice (03-002)]

NASA Advisory Council, Biological and Physical Research Advisory Committee, Space Station Utilization Advisory Subcommittee; Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee, Space Station Utilization Advisory Subcommittee (SSUAS).

DATES: Monday, February 3, 2003, 8 a.m. to 5 p.m., and Tuesday, February 4, 2003, 8 a.m. to 5 p.m.

ADDRESSES: South Shore Harbour Resort, 2500 South Shore Blvd., League, Texas 77573.

FOR FURTHER INFORMATION CONTACT: Dr. Neal Pellis, Code U, National Aeronautics and Space Administration, Houston, TX 77058, (281) 483-2357.

SUPPLEMENTARY INFORMATION: The meeting will be open to the public up to the seating capacity of the room. Advance notice of attendance to the Executive Secretary is requested. The agenda for the meeting will include the following topics:

• Research Report on Increment Five Research Plans for Increments 6 and 7

• Telecon with Investigators

• Operations Report

• Office of Biological and Physical Research Report

• International Space Station (ISS) Program Status/Plans

• ISS Payloads Office Report

• Response to Prior Recommendations

• Recommendations

It is imperative that the meeting be held on this date to accommodate the scheduling priorities of the key participants. Visitors will be requested to sign a visitor's register.

June W. Edwards,
Advisory Committee Management Officer, National Aeronautics and Space Administration.

[FR Doc. 03-658 Filed 1-13-03; 8:45 am]

BILLING CODE 7510-01-P